DEPARTMENT OF COMMERCE

International Trade Administration

[A-570-822]

Helical Spring Lock Washers from the People's Republic of China: Notice of Rescission of Antidumping Duty Administrative Review

AGENCY: Import Administration, International Trade Administration, Department of Commerce.

ACTION: Notice of Rescission of Antidumping Duty Administrative Review.

EFFECTIVE DATE: March 9, 2005.

SUMMARY: On November 19, 2004, the Department of Commerce (the Department) published in the Federal Register (69 FR 67701) a notice announcing the initiation of an administrative review of the antidumping duty order on helical spring lock washers from the People's Republic of China (PRC), covering the period October 1, 2003, through September 30, 2004, and one manufacturer/exporter of the subject merchandise, Hangzhou Spring Washer Co., Ltd. (also known as Zhejiang Wanxin Group, Ltd.) (collectively, Hangzhou). We are now rescinding this review as a result of Shakeproof Assembly Components Division of Illinois Tool Works, Inc. (Shakeproof)'s withdrawal of its request for an administrative review. No other parties requested a review.

FOR FURTHER INFORMATION CONTACT: Charles Riggle at (202) 482-0650 or Marin Weaver at (202) 482-2336, Import Administration, Room 1870, International Trade Administration, U.S. Department of Commerce, 14th Street and Constitution Avenue, NW., Washington, DC 20230.

SUPPLEMENTARY INFORMATION:

Background

On October 18, 2004, Shakeproof, in accordance with 19 CFR 351.213(b), requested an administrative review of the antidumping duty order on helical spring lock washers from the PRC. On November 19, 2004, in accordance with 19 CFR 351.221(c)(1)(i), we initiated an administrative review of this order for the period October 1, 2003, through September 30, 2004. See Notice of Initiation of Antidumping and Countervailing Duty Administrative Reviews, 69 FR 67701. On January 31, 2005, Shakeproof withdrew its request for this review.

Rescission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. Shakeproof was the only party to request this review and it withdrew its request within the 90-day period. Accordingly, this review is rescinded. The Department will issue appropriate assessment instructions directly to U.S. Customs and Border Protection within 15 days of publication of these final results of review.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: March 2, 2005.
Barbara E. Tillman,
Acting Deputy Assistant Secretary for Import Administration.

[FR Doc. E5-995 Filed 3-8-05; 8:45 am]

BILLING CODE 3510-DS-S